DEPARTMENT OF STATE

[Public Notice No. 3346]

Shipping Coordinating Committee Subcommittee on Safety of Life at Sea and Associated Bodies Working Group on Stability and Load Lines and on Fishing Vessels Safety; Notice of Meeting

The Working Group on Stability and Load Lines and on Fishing Vessels Safety of the Subcommittee on Safety of Life at Sea will conduct an open meeting at 9:30 a.m. on Monday, August 28, 2000, in Room 6319, at U.S. Coast Guard Headquarters, 2100 Second Street, SW, Washington, DC 20593-0001. This meeting will discuss the upcoming 43rd Session of the Subcommittee on Stability and Load Lines and on Fishing Vessels Safety (SLF) and associated bodies of the International Maritime Organization (IMO) which will be held on September 11-15, 2000, at the IMO Headquarters in London, England.

Items of discussion will include the following:

a. Review of results from 42nd Session of the SLF,

b. Harmonization of damage stability provisions in the IMO instruments,

c. Revision of technical regulations of the 1966 International Load Line Convention,

d. Development of the damage consequence diagrams for inclusion in damage control plan guidelines, and

e. Revisions to the Fishing Vessel Safety Code and Voluntary Guidelines.

Members of the public may attend this meeting up to the seating capacity of the room. Interested persons may seek information by writing: Mr. Paul Cojeen, U.S. Coast Guard Headquarters, Commandant (G-MSE-2), Room 1308, 2100 Second Street, SW, Washington, DC 20593-0001 or by calling (202) 267-2988.

Dated: July 12, 2000.
Stephen M. Miller,
Executive Secretary, Shipping Coordinating Committee, Department of State.

[FR Doc. 00-18781 Filed 7-24-00; 8:45 am]

BILLING CODE 4710-07-P